DEPARTMENT OF LABOR

Employment Standards Administration

Proposed Collection; Comment Request

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment Standards Administration is soliciting comments concerning the proposed collection: Energy Employees Occupational Illness Compensation Program Act Forms (EE-1 English and EE-1 Spanish, EE-2 English and EE-2 Spanish, EE-3 English and EE-3 Spanish, EE-4 English and EE-4 Spanish, EE-7 English and EE-7 Spanish, EE-8, EE-9, EE-10, EE-12, EE-13, EE-20). A copy of the proposed information collection request can be obtained by contacting the office listed below in the addressee section of this Notice.

DATES: Written comments must be submitted to the office listed in the addresses section below on or before May 7, 2007.

ADDRESSES: Ms. Hazel M. Bell, U.S. Department of Labor, 200 Constitution Ave., NW., Room S-3201, Washington, DC 20210, telephone (202) 693-0418, fax (202) 693-1451, e-mail bell.hazel@dol.gov. Please use only one method of transmission for comments (mail, fax, or e-mail).

SUPPLEMENTARY INFORMATION

I. Background

The Office of Workers' Compensation Programs (OWCP) is the primary agency responsible for the administration of the Energy Employees Occupational Illness Compensation Program Act of 2000 as amended (EEOICPA or Act), 42 U.S.C. 7384 et seq. The Act provides for timely payment of compensation to covered employees and, where applicable, survivors of such employees, who sustained either “occupational illnesses” or “covered Illnesses” incurred in the performance of duty for the Department of Energy and certain of its contractors and subcontractors. The Act sets forth eligibility criteria for claimants for compensation under Part B and Part E of the Act, and outlines the various elements of compensation payable from the Fund established by the Act. The information collected is used to obtain demographic, factual and medical information needed to determine entitlement to benefits under the EEOICPA. Before benefits may be paid, the case files must contain medical and employment evidence showing the claimant's eligibility. The eight forms listed below are reporting requirements under the Act and are required to determine a claimant's eligibility for compensation and to receive benefits under the EEOICPA. The forms reporting requirements are: EE-1, Claim for Benefits Under Energy Employees Occupational Illness Compensation Program Act is used to file notice of claim under Part B and/or E of the EEOICPA, and is to be completed by the living current or former employee; EE-2, Claim for Survivor Benefits Under Energy Employees Occupational Illness Compensation Program Act is used by the survivor of a covered employee to file notice of claim under Part B and/or E of the EEOICPA; EE-3, Employment History for Claim Under Energy Employees Occupational Illness Compensation Program Act is used to gather factual information regarding the employee's work history; EE-4, Employment History Affidavit for Claim Under the Energy Employees Occupational Illness Compensation Program Act is used to support the claimant's employment history by affidavit; EE-7, Medical Requirements Under the Energy Employees Occupational Illness Compensation Program Act informs an employee, survivor or physician of the medical evidence needed to establish a diagnosis of a covered condition; EE-8, Letter to Claimant is sent with enclosure EN-8 to obtain information on the employees' smoking history when lung cancer due to radiation is claimed; EE-9, Letter to Claimant is sent with enclosure EN-9 to obtain information concerning the race or ethnicity of the employee when skin cancer is claimed; EE-10, Claim for Additional Wage-Loss and/or Impairment Under the EEOICPA is used by the covered Part E employee who has received an award for wage-loss and/or impairment due to “covered illness” to claim for subsequent calendar year of wage-loss and/or any additional impairment; EE-12, Letter to covered Part B and E employees receiving medical benefits, sent with enclosure EN-12 and is used to collect updated information about settlements or awards in litigation and state workers' compensation benefits that impact continuing entitlement; EE-13, Letter to state workers' compensation authorities, sent with enclosure EN-13 and is used to identify covered Part E employees receiving medical benefits who have also been awarded state workers' compensation for their covered illnesses; and EE-20, Letter to Claimant is sent with enclosure EN-20 to verify acceptance of payment on approved claims. This information collection is currently approved for use through August 31, 2007.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

III. Current Actions

The Department of Labor seeks approval for the revision of this information collection in order to carry out its responsibility to determine a claimant's eligibility for compensation under the EEOICPA.

Type of Review: Revision.

Agency: Employment Standards Administration.

Title: Energy Employee Occupational Illness Compensation Act Forms (various).

OMB Number: 1215-0197.

Agency Number: EE-1 English and EE-1 Spanish, EE-2 English and EE-2 Spanish, EE-3 English and EE-3 Spanish, EE-4 English and EE-4 Spanish, EE-7 English and EE-7 Spanish, EE-8, EE-9, EE-10, EE-12, EE-13, EE-20.

Affected Public: Individuals or households; Business or other for-profit.

Total Respondents: 78,587.

Total Responses: 79,062.

Time per Response: 5 minutes to 8 hours.

Frequency: As needed.

Estimated Total Burden Hours: 35,447.

Total Burden Cost (capital/startup): $0.

Total Burden Cost (operating/maintenance): $4,419.

Comments submitted in response to this notice will be summarized and/or included in the request for Office of Management and Budget approval of the information collection request; they will also become a matter of public record.

Ruben Wiley,
Chief, Branch of Management Review and Internal Control, Division of Financial Management, Office of Management, Administration and Planning, Employment Standards Administration.

[FR Doc. E7-3867 Filed 3-5-07; 8:45 am]

BILLING CODE 4510-CR-P